STATE JUSTICE INSTITUTE

SJI Board of Directors Meeting

AGENCY: State Justice Institute.

ACTION: Notice of Meeting.

SUMMARY: The SJI Board of Directors will be meeting on Monday, September 17, 2012 at 1 p.m. The meeting will be held at the National Judicial College, in Reno, Nevada. The purpose of this meeting is to consider grant applications for the 4th quarter of FY 2012, and other business. All portions of this meeting are open to the public.

ADDRESSES: National Judicial College, Judicial College Building, M/S 358, Reno, NV 89557, 1-800-25-JUDGE.

FOR FURTHER INFORMATION CONTACT: Jonathan Mattiello, Executive Director, State Justice Institute, 11951 Freedom Drive, Suite 1020, Reston, VA 20190, 571-313-8843, contact@sji.gov.

Jonathan D. Mattiello,
Executive Director.

[FR Doc. 2012-20865 Filed 8-23-12; 8:45 am]

BILLING CODE P